DEPARTMENT OF DEFENSE

Department of the Navy

Revised Notice of Intent To Prepare an Environmental Impact Statement for EA-18G Growler Airfield Operations at Naval Air Station Whidbey Island, WA and Notice of Request for Public Scoping Comments

AGENCY: Department of the Navy, DoD.

ACTION: Notice.

SUMMARY: This notice is to advise the public that the Department of the Navy (DoN) is revising the scope for the Environmental Impact Statement (EIS) for EA-18G Growler airfield operations at Naval Air Station (NAS) Whidbey Island, Washington. This revised Notice of Intent has been published because since the September 5, 2013 publication of the original Notice of Intent in the Federal Register (78 FR 54635), the DoN has modified its proposed action to address a potential increase in the number of EA-18G aircraft to be procured and the subsequent changes in the number of aircraft that would be home based at NAS Whidbey Island. The revised scope will evaluate the potential environmental effects of homebasing an additional 13 to 36 EA-18G Growler aircraft at NAS Whidbey Island and the effects of this home basing on EA-18G Growler airfield operations at Ault Field and Outlying Landing Field (OLF) Coupeville. Additional information concerning the proposed scope changes is available on the project Web site at www.whidbeyeis.com.

The DoN invites comments on the proposed scope and content of the EIS from all interested parties. Comments on the scope of the EIS may be provided via the U.S. Postal Service or the EIS Web site at: www.whidbeyeis.com. In addition, the DoN will conduct open house information sessions to obtain comments on the scope of the EIS and to identify specific environmental concerns or topics for consideration.

Dates and Addresses: Three open house information sessions will be held between 4:00 p.m. and 8:00 p.m. on:

1. Tuesday, October 28, 2014, Coupeville High School, 501 South Main Street, Coupeville, Washington 98239.

2. Wednesday, October 29, 2014, Oak Harbor Elks Lodge, 155 NE Ernst Street, Oak Harbor, Washington 98277.

3. Thursday, October 30, 2014, Anacortes High School Cafeteria, 1600 20th Street, Anacortes, Washington 98221.

Each of the three open house information sessions will be informal and consist of information stations staffed by DoN representatives.

FOR FURTHER INFORMATION CONTACT: EA-18G EIS Project Manager (Code EV21/SS); Naval Facilities Engineering Command (NAVFAC) Atlantic, 6506 Hampton Boulevard, Norfolk, Virginia 23508.

SUPPLEMENTARY INFORMATION: NAS Whidbey Island is the center of excellence for electronic combat warfare training (electronic surveillance and attack) and has supported the Navy's electronic attack (VAQ) community of personnel, aircraft, equipment and mission-related Navy functions since 1971. With the disestablishment of U.S. Marine Corps electronic attack capabilities, the DoD expeditionary electronic attack mission is single-sited at NAS Whidbey Island which maximizes operational capabilities and efficiencies without duplicating facilities and functions at another location.

NAS Whidbey Island provides facilities and support services for nine Carrier Air Wing (CVW) VAQ squadrons, three Expeditionary (EXP) VAQ squadrons, one Reserve squadron, and one Fleet Replacement Squadron (FRS). These squadrons are comprised of EA-6B Prowler and EA-18G Growler aircraft.

In 2005 and 2012, the DoN prepared environmental analyses pursuant to the National Environmental Policy Act (NEPA) of 1969 for the replacement of the EA-6B Prowler aircraft at NAS Whidbey Island with the newer EA-18G Growler aircraft. The 2005 Environmental Assessment (EA) evaluated the environmental consequences of transitioning CVW VAQ squadrons (fleet squadrons) and the FRS (training squadron) from the EA-6B to the EA-18G aircraft and disestablishing three EXP VAQ squadrons. A subsequent EA in 2012 evaluated the environmental consequences of retaining and transitioning the three EXP VAQ squadrons, previously proposed for disestablishment, from EA-6B to EA-18G aircraft and the relocation of a reserve expeditionary VAQ squadron from Joint Base Andrews, Maryland.

On September 5, 2013, the DoN announced the preparation of an EIS for EA-18G Growler airfield operations at NAS Whidbey Island. In this EIS, the DoN proposed to evaluate the potential environmental effects associated with the introduction of two additional EA-18G Growler expeditionary squadrons acquired under the DoD Appropriations Act of 2014. During the public scoping comment period, public meetings were held December 3-5, 2013 in Coupeville, Oak Harbor, and Anacortes, Washington, and over 1,600 comments from the public were collected.

In Spring 2014, the Chief of Naval Operations submitted an Unfunded Requirements List to Congress that identified a need for 22 additional EA-18G aircraft to be included in the President's Budget for Fiscal Year 2015. While it is unclear whether more Growlers will be procured, the DoN has decided to analyze the potential growth to ensure full transparency with the public and to ensure the local community has adequate opportunity to participate in the NEPA process. Accordingly, the DoN will assess the potential environmental impacts of the proposed force structure changes to the electronic attack community and home basing of additional EA-18G aircraft at NAS Whidbey Island by re-scoping the EIS effort currently underway.

To meet current and future requirements, the DoN proposes to: (1) Continue and expand the existing electronic attack operations at NAS Whidbey Island complex, which includes Ault Field and OLF Coupeville (including a range of Field Carrier Landing Practice (FCLP) operations); (2) increase electronic attack capabilities and augment the VAQ FRS (provide for an increase of between 13 and 36 aircraft) to support an expanded DoD mission for identifying, tracking and targeting in a complex electronic warfare environment; (3) construct and renovate facilities at Ault Field to accommodate additional aircraft; and (4) station additional personnel and their family members at NAS Whidbey Island and in the surrounding community.

The revised scope of the EIS will address the No Action Alternative and four action alternatives. Under the No Action Alternative, the DoN would not add VAQ squadrons or aircraft to NAS Whidbey Island to improve the Navy's Electronic Attack capability. Legacy EA-6B Prowlers would continue to gradually transition to next generation EA-18G Growler aircraft (82 aircraft) and annual EA-18G Growler airfield operations would be maintained at levels consistent with those identified in the 2005 and 2012 transition EAs. While the No Action Alternative does not meet the purpose of and need for the proposed action, it serves as a baseline against which impacts of the proposed action can be evaluated.

The DoN will analyze the potential environmental impacts of airfield operations (including FCLP for CVW and FRS squadrons at Ault Field and OLF Coupeville), facilities and functions associated with four force structure alternatives:

1. Alternative 1: Expand EXP electronic attack capabilities by establishing two new EXP VAQ squadrons and augmenting the FRS by three additional aircraft (a net increase of 13 aircraft);

2. Alternative 2: Expand CVW electronic attack capabilities by adding two additional aircraft to each existing CVW VAQ squadron and augmenting the FRS by six additional aircraft (a net increase of 24 aircraft);

3. Alternative 3: Expand CVW capabilities by adding three additional aircraft to each existing CVW VAQ squadron and augmenting the FRS by eight additional aircraft (a net increase of 35 aircraft); and

4. Alternative 4: Expand EXP and CVW capabilities by establishing two new EXP VAQ squadrons, adding two additional aircraft to each existing CVW VAQ squadron, and augmenting the FRS by eight additional aircraft (a net increase of 36 aircraft).

In developing the proposed range of alternatives, the DoN utilized long-established operational considerations which are more fully described in the 2005 and 2012 EAs for the replacement of the EA-6B Prowler aircraft with the newer EA-18G Growler aircraft at NAS Whidbey Island. These considerations include the fact that all of the Navy's electronic attack mission and training facilities are located at NAS Whidbey Island, including the substantial infrastructure and training ranges that have developed in more than 40 years of operation, the location of a suitable airfield that provides for the most realistic training environment, the distance aircraft would have to travel to accomplish training, and the expense of duplicating existing capabilities elsewhere. As a result, the DoN is not considering alternative locations for FCLP training, or squadron relocation. Short-term detachments to meet training requirements would continue, as needed.

The environmental analysis in the EIS will focus on several aspects of the proposed action: aircraft operations at Ault Field and OLF Coupeville; facility construction; and personnel changes. Resource areas to be addressed in the EIS will include, but not be limited to: Air quality, noise, land use, socioeconomics, natural resources, biological resources, cultural resources, and safety and environmental hazards.

The analysis will evaluate direct and indirect impacts, and will account for cumulative impacts from other relevant activities near the installation. Relevant and reasonable measures that could avoid or mitigate environmental effects will also be analyzed. Additionally, the DoN will undertake consultations applicable by law and regulation.

As outlined in 36 CFR Part 800, “Protection of Historic Properties,” the DoN plans to comply with Section 106 of the National Historic Preservation Act of 1966, as amended (NHPA), in conjunction with the NEPA process. The Section 106 process will include consultation with the State Historic Preservation Officer, Native American Tribes and Nations, other parties with a demonstrated interest in cultural resources for the project, and the Advisory Council on Historic Preservation. Pursuant to 36 CFR 800.2(d), the DoN intends to use the public scoping open house meetings to facilitate public involvement pursuant to Section 106 of the NHPA. The DoN will present information about cultural resources and the Section 106 process for the project at the public scoping open house meetings. Comments on cultural resources or Section 106 issues or concerns that are received from the public during the scoping process will be addressed as part of the Section 106 process.

No decision will be made to implement any alternative until the EIS process is completed and a Record of Decision is signed by the Assistant Secretary of the Navy (Energy, Installations and Environment) or designee. The scoping process will be used to identify community concerns and local issues to be addressed in the EIS. Federal agencies, state agencies, local agencies, Native American Indian Tribes and Nations, the public, and interested persons are encouraged to provide comments to the DoN to identify specific issues or topics of environmental concern that the commenter believes the DoN should consider. All comments provided orally or in writing at the scoping meetings or by mail during the scoping period will receive the same consideration during EIS preparation. All comments must be postmarked no later than November 17, 2014.

The DoN will not release the names, street addresses, email addresses and screen names, telephone numbers, or other personally identifiable information of individuals who provide comments during scoping unless required by law. However, the DoN may release the city, state, and 5-digit zip code of individuals who provide comments. Each commenter making oral comments at the a public scoping meetings will be asked by the stenographer if he/she otherwise elects to authorize the release of their personally identifiable information prior to providing their comments. Commenters submitting written comments, either using comment forms or via the project Web site, may elect to authorize release of personally identifiable information by checking a “release” box on the comment form.

To be included on the DoN's mailing list for the EIS (or to receive a copy of the Draft EIS, when released), electronic requests can be made on the project Web site at www.whidbeyeis.com. Requests via the U.S. Postal Service should be submitted to: EA-18G EIS Project Manager (Code EV21/SS); Naval Facilities Engineering Command (NAVFAC) Atlantic, 6506 Hampton Blvd., Norfolk, VA 23508. The same policy for release of personally identifiable information as identified above for scoping comments will be maintained by DoN for individuals requesting to be included on the EIS mailing list.

Dated: October 6, 2014.
N.A. Hagerty-Ford,
Commander, Office of the Judge Advocate General, U.S. Navy, Federal Register Liaison Officer.

[FR Doc. 2014-24223 Filed 10-9-14; 8:45 am]

BILLING CODE 3810-FF-P